CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning its Application Instructions for State Commissions. These applications are used by current and prospective grantees to apply for funds to support AmeriCorps States and Territories Competitive, Education Award Program, and Formula Grants.

Copies of the information collection requests can be obtained by contacting the office listed in the address section of this notice.

DATES: Written comments must be submitted to the individual and office listed in the ADDRESSES section by October 24, 2005.

ADDRESSES: You may submit comments, identified by the title of the information collection activity, by any of the following methods:

(1) By mail sent to: Amy Borgstrom, Associate Director for Policy, AmeriCorps State and National, 1201 New York Avenue NW., Washington, DC 20525.

(2) By hand delivery or by courier to the Corporation's mailroom at Room 8410 at the mail address given in paragraph (1) above, between 9 a.m. and 4 p.m. Monday through Friday, except Federal holidays.

(3) By fax to: (202) 606-3476, Attention Amy Borgstrom, Associate Director for Policy, AmeriCorps State and National.

(4) Electronically through the Corporation's e-mail address system: aborgstrom@cns.gov.

FOR FURTHER INFORMATION CONTACT: Amy Borgstrom, (202) 606-6930, or by e-mail at aborgstrom@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background: Since the President's Call to Service, many Americans have expressed a renewed desire to serve their country by volunteering in their community. Now, we have an obligation to ensure that Americans have quality opportunities to serve. The Corporation has amended several provisions relating to the AmeriCorps national service program, and has added a rule to clarify the Corporation's requirements for program sustainability, performance measures and evaluation, capacity-building activities by AmeriCorps members, qualifications for tutors, and other requirements. The implementation of these changes through the rulemaking process includes ensuring the Corporation's information collection instruments accurately reflect these issues.

In an effort to be compliant while maintaining functions essential to the operations of each State Commission and AmeriCorps program, we are submitting the enclosed request to OMB for approval of information collection activities. This submission includes application instructions which are used by state commissions to apply for AmeriCorps States and Territories Competitive, Education Award Program, and Formula Grants. The application is completed electronically using eGrants, the Corporation's web-based grants management system.

Current Action: The Corporation seeks to renew and revise the current Application Instructions for State Commissions due to Rulemaking. When revised, the Application Instructions will revise/clarify the Application Instructions especially as they are affected by new regulations. In addition, these Application Instructions which previously were included in a larger collection, will now be separated into a new collection.

The application will otherwise be used in the same manner as the existing application for State Primes which was included in the AmeriCorps National, State, and Indian Tribes and U.S. Territories 2005 Application Instructions, and which it replaces. The Corporation also seeks to continue using the current application until the revised application is approved by OMB. The current application is due to expire on September 30, 2005.

Type of Review: New.

Agency: Corporation for National and Community Service.

Title: Application Instructions for State Commissions (formerly 2005 State Commission Administrative Guidance and Prime Application Instructions).

OMB Number: New.

Agency Number: None.

Affected Public: State Commissions applying for AmeriCorps States and Territories Competitive, Education Award Program, and Formula Grants.

Total Respondents: 54.

Frequency: Annually for Competitive and Formula, bi-annually for the Education Award Program.

Average Time per Response: Averages 24 hours.

Estimated Total Burden Hours: 1296.

Total Burden Cost (capital/startup): None.

Total Burden Cost (operating/maintenance): None.

Comments submitted in response to this notice will be summarized and/or included in the request for Office of Management and Budget approval of the information collection request; they will also become a matter of public record.

Dated: August 18, 2005.
Rosie Mauk,
Director, AmeriCorps.

[FR Doc. 05-16841 Filed 8-23-05; 8:45 am]

BILLING CODE 6050-$$-P